DEPARTMENT OF TRANSPORTATION

National Highway Traffic Safety Administration

49 CFR Part 541

[Docket No. NHTSA-2011-0075]

Preliminary Theft Data; Motor Vehicle Theft Prevention Standard

AGENCY: National Highway Traffic Safety Administration (NHTSA), Department of Transportation.

ACTION: Publication of preliminary theft data; request for comments.

SUMMARY: This document requests comments on data about passenger motor vehicle thefts that occurred in calendar year (CY) 2009 including theft rates for existing passenger motor vehicle lines manufactured in model year (MY) 2009. The preliminary theft data indicate that the vehicle theft rate for CY/MY 2009 vehicles (1.33 thefts per thousand vehicles) decreased by 21.3 percent from the theft rate for CY/MY 2008 vehicles (1.69 thefts per thousand vehicles).

Publication of these data fulfills NHTSA's statutory obligation to periodically obtain accurate and timely theft data, and publish the information for review and comment.

DATES: Comments must be submitted on or before August 22, 2011.

ADDRESSES: You may submit comments [identified by Docket No. NHTSA-2011-0075 by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays.

• Fax: 202-493-2251

Instructions: For detailed instructions on submitting comments and additional information on the rulemaking process, see the Public Participation heading of the Supplementary Information section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketsInfo.dot.gov.

Docket: For access to the docket to read background documents or comments received, go to http://www.regulations.gov, or the street address listed above. Follow the online instructions for accessing the dockets.

FOR FURTHER INFORMATION CONTACT: Ms. Deborah Mazyck, Office of International Policy, Fuel Economy and Consumer Programs, NHTSA, 1200 New Jersey Avenue, SE., Washington, DC 20590. Ms. Mazyck's telephone number is (202) 366-4139. Her fax number is (202) 493-2990.

SUPPLEMENTARY INFORMATION: NHTSA administers a program for reducing motor vehicle theft. The central feature of this program is the Federal Motor Vehicle Theft Prevention Standard, 49 CFR part 541. The standard specifies performance requirements for inscribing or affixing vehicle identification numbers (VINs) onto certain major original equipment and replacement parts of high-theft lines of passenger motor vehicles.

The agency is required by 49 U.S.C. 33104(b)(4) to periodically obtain, from the most reliable source, accurate and timely theft data, and publish the data for review and comment. To fulfill the § 33104(b)(4) mandate, this document reports the preliminary theft data for CY 2009 the most recent calendar year for which data are available.

In calculating the 2009 theft rates, NHTSA followed the same procedures it has used since publication of the 1983/1984 theft rate data (50 FR 46669, November 12, 1985). The 2009 theft rate for each vehicle line was calculated by dividing the number of reported thefts of MY 2009 vehicles of that line stolen during calendar year 2009 by the total number of vehicles in that line manufactured for MY 2009, as reported to the Environmental Protection Agency (EPA). As in all previous reports, NHTSA's data were based on information provided to NHTSA by the National Crime Information Center (NCIC) of the Federal Bureau of Investigation. The NCIC is a government system that receives vehicle theft information from approximately 23,000 criminal justice agencies and other law enforcement authorities throughout the United States. The NCIC data also include reported thefts of self-insured and uninsured vehicles, not all of which are reported to other data sources.

The preliminary 2009 theft data show a decrease in the vehicle theft rate when compared to the theft rate experienced in CY/MY 2008 (For 2008 theft data, see 76 FR 2598, January 14, 2011). The preliminary theft rate for MY 2009 passenger vehicles stolen in calendar year 2009 decreased to 1.33 thefts per thousand vehicles produced, a decrease of 21.3 percent from the rate of 1.69 thefts per thousand vehicles experienced by MY vehicles in CY 2008. For MY 2009 vehicles, out of a total of 238 vehicle lines, 10 lines had a theft rate higher than 3.5826 per thousand vehicles, the established median theft rate for MYs 1990/1991 (See 59 FR 12400, March 16, 1994). Of the 10 vehicle lines with a theft rate higher than 3.5826, 10 are passenger car lines, none are multipurpose passenger vehicle lines, and none are light-duty truck lines.

The agency believes that the theft rate reduction is a result of several factors, including vehicle parts marking; the increased use of standard antitheft devices and other advances in electronic technology (i.e., immobilizers) and theft prevention methods; increased and improved prosecution efforts by law enforcement organizations; and, increased public awareness which may have contributed to the overall reduction in vehicle thefts. The preliminary MY 2009 theft rate reduction is consistent with the general decreasing trend of theft rates over the past 17 years as indicated by Figure 1.

In Table I, NHTSA has tentatively ranked each of the MY 2009 vehicle lines in descending order of theft rate. Public comment is sought on the accuracy of the data, including the data for the production volumes of individual vehicle lines.

Comments must not exceed 15 pages in length (49 CFR Part 553.21). Attachments may be appended to these submissions without regard to the 15 page limit. This limitation is intended to encourage commenters to detail their primary arguments in a concise fashion.

If a commenter wishes to submit certain information under a claim of confidentiality, three copies of the complete submission, including purportedly confidential business information, should be submitted to the Chief Counsel, NHTSA, at the street address given above, and two copies from which the purportedly confidential information has been deleted should be submitted to Dockets. A request for confidentiality should be accompanied by a cover letter setting forth the information specified in the agency's confidential business information regulation. 49 CFR part 512.

All comments received before the close of business on the comment closing date indicated above for this document will be considered, and will be available for examination in the docket at the above address both before and after that date. To the extent possible, comments filed after the closing date will also be considered. Comments on this document will be available for inspection in the docket. NHTSA will continue to file relevant information as it becomes available for inspection in the docket after the closing date, and it is recommended that interested persons continue to examine the docket for new material.

Those persons desiring to be notified upon receipt of their comments in the rules docket should enclose a self-addressed, stamped postcard in the envelope with their comments. Upon receiving the comments, the docket supervisor will return the postcard by mail.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://DocketsInfo.dot.gov.

Authority: 49 U.S.C. 33101, 33102 and 33104; delegation of authority at 49 CFR 1.50.

Preliminary Report of Theft Rates for Model Year 2009 Passenger Motor Vehicles Stolen in Calendar Year 2009
| Manufacturer | Make/model (line) | Thefts 2009 | Production (Mfr's) 2009 | 2009 Theft rate (per 1,000 vehicles produced)
1 | AUDI | AUDI S8 | 2 | 227 | 8.8106
2 | FORD MOTOR CO. | SHELBY GT | 5 | 581 | 8.6059
3 | BMW | M5 | 2 | 264 | 7.5758
4 | CHRYSLER | DODGE CHARGER | 432 | 66,856 | 6.4616
5 | HONDA | S2000 | 2 | 357 | 5.6022
6 | MITSUBISHI | GALANT | 152 | 29,716 | 5.1151
7 | CHRYSLER | 300 | 143 | 31,287 | 4.5706
8 | NISSAN | INFINITI M35/M45 | 27 | 6,243 | 4.3248
9 | GENERAL MOTORS | CADILLAC STS | 31 | 7,239 | 4.2824
10 | CHRYSLER | SEBRING CONVERTIBLE | 18 | 4,827 | 3.7290
11 | CHRYSLER | DODGE AVENGER | 107 | 31,667 | 3.3789
12 | CHRYSLER | SEBRING | 65 | 19,588 | 3.3184
13 | AUDI | AUDI A8 | 6 | 1,810 | 3.3149
14 | VOLVO | V70 | 3 | 996 | 3.0120
15 | GENERAL MOTORS | PONTIAC G5 | 60 | 20,623 | 2.9094
16 | GENERAL MOTORS | PONTIAC G6 | 281 | 99,226 | 2.8319
17 | CHRYSLER | DODGE CALIBER | 125 | 44,554 | 2.8056
18 | CHRYSLER | PT CRUISER | 69 | 24,876 | 2.7738
19 | GENERAL MOTORS | CHEVROLET IMPALA | 499 | 183,769 | 2.7154
20 | NISSAN | INFINITI FX35 | 35 | 13,375 | 2.6168
21 | CHRYSLER | DODGE CHALLENGER | 53 | 20,526 | 2.5821
22 | NISSAN | PATHFINDER | 13 | 5,076 | 2.5611
23 | BMW | M6 | 1 | 397 | 2.5189
24 | CHRYSLER | DODGE NITRO | 26 | 10,539 | 2.4670
25 | NISSAN | MAXIMA | 141 | 58,278 | 2.4194
26 | KIA | RONDO | 42 | 17,573 | 2.3900
27 | MAZDA | 5 | 53 | 22,248 | 2.3822
28 | GENERAL MOTORS | CHEVROLET MALIBU | 413 | 176,813 | 2.3358
29 | KIA | SPECTRA | 135 | 60,296 | 2.2390
30 | GENERAL MOTORS | CHEVROLET COBALT | 312 | 141,588 | 2.2036
31 | GENERAL MOTORS | SATURN AURA | 78 | 35,472 | 2.1989
32 | MERCEDES-BENZ | S-CLASS | 22 | 10,189 | 2.1592
33 | GENERAL MOTORS | CHEVROLET HHR | 172 | 80,781 | 2.1292
34 | TOYOTA | SCION TC | 57 | 27,179 | 2.0972
35 | JAGUAR LAND ROVER | XF | 27 | 12,953 | 2.0845
36 | MAZDA | 3 | 99 | 47,569 | 2.0812
37 | FORD MOTOR CO. | LINCOLN TOWN CAR | 24 | 11,596 | 2.0697
38 | TOYOTA | AVALON | 45 | 22,030 | 2.0427
39 | NISSAN | 350Z | 1 | 503 | 1.9881
40 | VOLVO | C70 | 8 | 4,027 | 1.9866
41 | MERCEDES-BENZ | CL-CLASS | 10 | 5,105 | 1.9589
42 | FORD MOTOR CO. | MUSTANG | 81 | 41,354 | 1.9587
43 | GENERAL MOTORS | CADILLAC DTS | 32 | 16,566 | 1.9317
44 | MAZDA | 6 | 76 | 39,504 | 1.9239
45 | MITSUBISHI | ECLIPSE | 24 | 12,760 | 1.8809
46 | NISSAN | ALTIMA | 410 | 228,101 | 1.7974
47 | FORD MOTOR CO. | MERCURY SABLE | 11 | 6,146 | 1.7898
48 | GENERAL MOTORS | CADILLAC CTS | 91 | 50,926 | 1.7869
49 | VOLVO | S60 | 12 | 6,837 | 1.7552
50 | TOYOTA | CAMRY/SOLARA | 781 | 447,882 | 1.7438
51 | TOYOTA | COROLLA | 632 | 363,515 | 1.7386
52 | HYUNDAI | SONATA | 270 | 159,775 | 1.6899
53 | GENERAL MOTORS | CHEVROLET TRAILBLAZER | 22 | 13,022 | 1.6894
54 | TOYOTA | 4RUNNER | 13 | 7,803 | 1.6660
55 | BMW | 6 | 4 | 2,420 | 1.6529
56 | GENERAL MOTORS | CHEVROLET AVEO | 94 | 58,439 | 1.6085
57 | NISSAN | SENTRA | 104 | 65,096 | 1.5976
58 | FORD MOTOR CO. | FOCUS | 235 | 148,244 | 1.5852
59 | HYUNDAI | ACCENT | 92 | 59,709 | 1.5408
60 | NISSAN | VERSA | 159 | 104,658 | 1.5192
61 | MAZDA | B SERIES PICKUP | 1 | 660 | 1.5152
62 | CHRYSLER | DODGE JOURNEY | 124 | 82,331 | 1.5061
63 | KIA | RIO | 61 | 41,036 | 1.4865
64 | MERCEDES-BENZ | C-CLASS | 86 | 57,872 | 1.4860
65 | GENERAL MOTORS | CHEVROLET CORVETTE | 23 | 15,647 | 1.4699
66 | NISSAN | 370Z | 16 | 11,024 | 1.4514
67 | NISSAN | XTERRA | 19 | 13,106 | 1.4497
68 | JAGUAR LAND ROVER | XKR | 1 | 696 | 1.4368
69 | FORD MOTOR CO. | MERCURY GRAND MARQUIS | 30 | 21,102 | 1.4217
70 | GENERAL MOTORS | PONTIAC TORRENT | 13 | 9,403 | 1.3825
71 | FORD MOTOR CO. | TAURUS | 34 | 25,094 | 1.3549
72 | CHRYSLER | JEEP COMPASS | 14 | 10,346 | 1.3532
73 | NISSAN | FRONTIER PICKUP | 31 | 23,030 | 1.3461
74 | VOLVO | S40 | 9 | 6,743 | 1.3347
75 | AUDI | AUDI A3 | 5 | 3,761 | 1.3294
76 | FORD MOTOR CO. | EDGE | 58 | 44,744 | 1.2963
77 | GENERAL MOTORS | BUICK LACROSSE/ALLURE | 24 | 18,532 | 1.2951
78 | TOYOTA | YARIS | 93 | 72,826 | 1.2770
79 | GENERAL MOTORS | GMC ENVOY | 7 | 5,661 | 1.2365
80 | MASERATI | QUATTROPORTE | 1 | 817 | 1.2240
81 | KIA | OPTIMA | 43 | 35,610 | 1.2075
82 | NISSAN | GT-R | 3 | 2,505 | 1.1976
83 | GENERAL MOTORS | SATURN VUE | 47 | 39,342 | 1.1947
84 | TOYOTA | LEXUS LS | 11 | 9,418 | 1.1680
85 | CHRYSLER | JEEP LIBERTY | 36 | 31,272 | 1.1512
86 | GENERAL MOTORS | BUICK LUCERNE | 36 | 31,751 | 1.1338
87 | KIA | SEDONA VAN | 21 | 18,684 | 1.1240
88 | KIA | AMANTI | 1 | 931 | 1.0741
89 | TOYOTA | LEXUS IS | 34 | 31,875 | 1.0667
90 | TOYOTA | SCION XB | 39 | 37,039 | 1.0529
91 | FORD MOTOR CO. | FLEX | 44 | 42,100 | 1.0451
92 | GENERAL MOTORS | PONTIAC VIBE | 59 | 56,730 | 1.0400
93 | MAZDA | RX-8 | 3 | 3,000 | 1.0000
94 | VOLKSWAGEN | GOLF/RABBIT/GTI | 19 | 19,005 | 0.9997
95 | AUDI | AUDI R8 | 1 | 1,022 | 0.9785
96 | KIA | SORENTO | 12 | 12,435 | 0.9650
97 | AUDI | AUDI S4/S5 | 3 | 3,112 | 0.9640
98 | MITSUBISHI | LANCER | 37 | 38,655 | 0.9572
99 | TOYOTA | SIENNA VAN | 61 | 63,797 | 0.9562
100 | KIA | SPORTAGE | 34 | 35,892 | 0.9473
101 | HONDA | ACCORD | 297 | 315,205 | 0.9422
102 | GENERAL MOTORS | PONTIAC G8 | 24 | 25,556 | 0.9391
103 | HONDA | ACURA TSX | 35 | 37,306 | 0.9382
104 | FORD MOTOR CO. | FUSION | 96 | 103,268 | 0.9296
105 | TOYOTA | MATRIX | 54 | 58,240 | 0.9272
106 | SUZUKI | SX4 | 23 | 24,859 | 0.9252
107 | GENERAL MOTORS | CHEVROLET EQUINOX | 30 | 32,555 | 0.9215
108 | MERCEDES-BENZ | E-CLASS | 17 | 18,803 | 0.9041
109 | MASERATI | GRANTURISMO | 1 | 1,123 | 0.8905
110 | NISSAN | MURANO | 96 | 108,188 | 0.8873
111 | CHRYSLER | JEEP WRANGLER | 58 | 67,122 | 0.8641
112 | VOLKSWAGEN | JETTA/GLI | 97 | 112,506 | 0.8622
113 | NISSAN | QUEST VAN | 7 | 8,232 | 0.8503
114 | FORD MOTOR CO. | LINCOLN MKS | 22 | 26,153 | 0.8412
115 | NISSAN | INFINITI G37 | 42 | 50,524 | 0.8313
116 | BMW | M3 | 3 | 3,642 | 0.8237
117 | VOLVO | C30 | 3 | 3,693 | 0.8123
118 | SUBARU | LEGACY | 21 | 26,278 | 0.7991
119 | SUBARU | IMPREZA | 34 | 42,551 | 0.7990
120 | HYUNDAI | ELANTRA | 61 | 76,637 | 0.7960
121 | MERCEDES-BENZ | SL-CLASS | 6 | 7,559 | 0.7938
122 | TOYOTA | TACOMA PICKUP | 92 | 116,059 | 0.7927
123 | HONDA | CIVIC | 218 | 278,426 | 0.7830
124 | HYUNDAI | GENESIS | 15 | 19,504 | 0.7691
125 | AUDI | AUDI Q5 | 5 | 6,531 | 0.7656
126 | FORD MOTOR CO. | ESCAPE | 113 | 148,860 | 0.7591
127 | MERCEDES-BENZ | SLK-CLASS | 3 | 3,987 | 0.7524
128 | HYUNDAI | SANTA FE | 57 | 77,857 | 0.7321
129 | MAZDA | CX-9 | 10 | 14,024 | 0.7131
130 | GENERAL MOTORS | CHEVROLET COLORADO PICKUP | 20 | 28,286 | 0.7071
131 | CHRYSLER | JEEP PATRIOT | 23 | 32,611 | 0.7053
132 | HONDA | ACURA RDX | 6 | 8,690 | 0.6904
133 | FORD MOTOR CO. | LINCOLN MKX | 8 | 11,626 | 0.6881
134 | PORSCHE | BOXSTER | 1 | 1,460 | 0.6849
135 | VOLVO | S80 | 5 | 7,409 | 0.6749
136 | AUDI | AUDI TT | 2 | 2,989 | 0.6691
137 | NISSAN | INFINITI FX50 | 1 | 1,510 | 0.6623
138 | TOYOTA | RAV4 | 79 | 119,381 | 0.6617
139 | BMW | 7 | 5 | 7,613 | 0.6568
140 | TOYOTA | LEXUS RX | 42 | 64,266 | 0.6535
141 | NISSAN | ROGUE | 47 | 73,877 | 0.6362
142 | VOLKSWAGEN | TIGUAN | 12 | 19,076 | 0.6291
143 | PORSCHE | CAYMAN | 1 | 1,591 | 0.6285
144 | TOYOTA | FJ CRUISER | 2 | 3,185 | 0.6279
145 | MAZDA | CX-7 | 8 | 12,906 | 0.6199
146 | SUZUKI | VITARA/GRAND VITARA | 4 | 6,476 | 0.6177
147 | AUDI | AUDI A4/A5 | 27 | 44,950 | 0.6007
148 | HONDA | ACURA 3.2 TL | 20 | 33,690 | 0.5936
149 | TOYOTA | HIGHLANDER | 33 | 57,166 | 0.5773
150 | FORD MOTOR CO. | TAURUS X | 3 | 5,209 | 0.5759
151 | TOYOTA | SCION XD | 10 | 17,587 | 0.5686
152 | MERCEDES-BENZ | SMART FORTWO | 8 | 14,169 | 0.5646
153 | TOYOTA | LEXUS GS | 3 | 5,537 | 0.5418
154 | VOLKSWAGEN | EOS | 5 | 9,560 | 0.5230
155 | BMW | 3 | 44 | 84,350 | 0.5216
156 | VOLKSWAGEN | PASSAT | 16 | 31,310 | 0.5110
157 | GENERAL MOTORS | SATURN SKY | 2 | 4,078 | 0.4904
158 | FORD MOTOR CO. | LINCOLN MKZ | 8 | 16,676 | 0.4797
159 | AUDI | AUDI A6 | 2 | 4,193 | 0.4770
160 | GENERAL MOTORS | PONTIAC SOLSTICE | 2 | 4,202 | 0.4760
161 | HONDA | PILOT | 40 | 84,089 | 0.4757
162 | GENERAL MOTORS | GMC CANYON PICKUP | 4 | 8,614 | 0.4644
163 | HONDA | ACURA MDX | 16 | 34,540 | 0.4632
164 | HYUNDAI | TUCSON | 5 | 11,032 | 0.4532
165 | VOLKSWAGEN | NEW BEETLE | 8 | 18,284 | 0.4375
166 | MAZDA | TRIBUTE | 2 | 4,670 | 0.4283
167 | BMW | 5 | 9 | 21,963 | 0.4098
168 | HONDA | ODYSSEY VAN | 30 | 73,777 | 0.4066
169 | BMW | 1 | 4 | 10,189 | 0.3926
170 | FORD MOTOR CO. | RANGER PICKUP | 19 | 49,466 | 0.3841
171 | SUBARU | FORESTER | 34 | 88,771 | 0.3830
172 | PORSCHE | 911 | 3 | 7,929 | 0.3784
173 | FORD MOTOR CO. | MERCURY MILAN | 7 | 18,556 | 0.3772
174 | HONDA | ACURA 3.5 RL | 1 | 2,670 | 0.3745
175 | BMW | X3 | 2 | 5,448 | 0.3671
176 | HONDA | ELEMENT | 4 | 11,114 | 0.3599
177 | MITSUBISHI | OUTLANDER | 4 | 11,904 | 0.3360
178 | TOYOTA | PRIUS | 27 | 82,659 | 0.3266
179 | TOYOTA | LEXUS ES | 13 | 42,833 | 0.3035
180 | JAGUAR LAND ROVER | LAND ROVER LR2 | 1 | 3,443 | 0.2904
181 | BMW | Z4/M | 1 | 3,637 | 0.2750
182 | TOYOTA | VENZA | 15 | 58,897 | 0.2547
183 | HONDA | FIT | 21 | 83,765 | 0.2507
184 | SUBARU | OUTBACK | 9 | 36,410 | 0.2472
185 | HONDA | CR-V | 40 | 171,943 | 0.2326
186 | FORD MOTOR CO. | CROWN VICTORIA | 8 | 36,101 | 0.2216
187 | SAAB | 9-3 | 1 | 4,593 | 0.2177
188 | NISSAN | CUBE | 6 | 28,243 | 0.2124
189 | KIA | BORREGO | 3 | 14714 | 0.2039
190 | MERCEDES-BENZ | CLK-CLASS | 3 | 15,654 | 0.1916
191 | SUBARU | B9 TRIBECA | 1 | 6,806 | 0.1469
192 | BMW | MINI COOPER | 6 | 51,935 | 0.1155
193 | FORD MOTOR CO. | MERCURY MARINER | 2 | 25,682 | 0.0779
194 | ASTON MARTIN | DB9 | 0 | 741 | 0.0000
195 | ASTON MARTIN | VANTAGE | 0 | 582 | 0.0000
196 | AUDI | AUDI S6 | 0 | 100 | 0.0000
197 | BENTLEY MOTORS | ARNAGE | 0 | 86 | 0.0000
198 | BENTLEY MOTORS | AZURE | 0 | 66 | 0.0000
199 | BENTLEY MOTORS | BROOKLANDS | 0 | 94 | 0.0000
200 | BENTLEY MOTORS | CONTINENTAL | 0 | 930 | 0.0000
201 | CHRYSLER | DODGE VIPER | 0 | 575 | 0.0000
202 | FERRARI | 141 | 0 | 109 | 0.0000
203 | FERRARI | 430 | 0 | 605 | 0.0000
204 | FERRARI | 612 SCAGLIETTI | 0 | 29 | 0.0000
205 | FERRARI | CALIFORNIA | 0 | 53 | 0.0000
206 | GENERAL MOTORS | CADILLAC FUNERAL COACH/HEARSE | 0 | 714 | 0.0000
207 | GENERAL MOTORS | CADILLAC LIMOUSINE | 0 | 330 | 0.0000
208 | GENERAL MOTORS | CADILLAC XLR | 0 | 858 | 0.0000
209 | GENERAL MOTORS | PONTIAC G3 | 0 | 6,237 | 0.0000
210 | GENERAL MOTORS | SATURN ASTRA | 0 | 851 | 0.0000
211 | HYUNDAI | AZERA | 0 | 5,062 | 0.0000
212 | HYUNDAI | VERACRUZ | 0 | 2,188 | 0.0000
213 | JAGUAR LAND ROVER | VANDEN PLAS/SUPER V8 | 0 | 326 | 0.0000
214 | JAGUAR LAND ROVER | XJ8/XJ8L | 0 | 358 | 0.0000
215 | JAGUAR LAND ROVER | XJR | 0 | 11 | 0.0000
216 | JAGUAR LAND ROVER | XK | 0 | 903 | 0.0000
217 | LAMBORGHINI | GALLARDO | 0 | 281 | 0.0000
218 | LAMBORGHINI | MURCIELAGO | 0 | 110 | 0.0000
219 | LOTUS | ELISE | 0 | 120 | 0.0000
220 | LOTUS | EXIGE | 0 | 27 | 0.0000
221 | MAZDA | MX-5 MIATA | 0 | 4,293 | 0.0000
222 | MERCEDES-BENZ | MAYBACH 57 | 0 | 27 | 0.0000
223 | MERCEDES-BENZ | MAYBACH 62 | 0 | 18 | 0.0000
224 | MERCEDES-BENZ | MAYBACH LANDAULET | 0 | 2 | 0.0000
225 | MERCEDES-BENZ | SLR-CLASS | 0 | 69 | 0.0000
226 | MITSUBISHI | ENDEAVOR | 0 | 50 | 0.0000
227 | NISSAN | INFINITI EX35 | 0 | 2,169 | 0.0000
228 | ROLLS ROYCE | PHANTOM | 0 | 409 | 0.0000
229 | ROUSH PERFORMANCE | RPP MUSTANG | 0 | 395 | 0.0000
230 | SAAB | 9-5 | 0 | 732 | 0.0000
231 | SPYKER | C8 | 0 | 18 | 0.0000
232 | SUZUKI | EQUATOR PICKUP | 0 | 2,380 | 0.0000
233 | SUZUKI | XL7 | 0 | 1,290 | 0.0000
234 | TESLA | ROADSTER | 0 | 900 | 0.0000
235 | TOYOTA | LEXUS SC | 0 | 511 | 0.0000
236 | VOLVO | V50 | 0 | 1,913 | 0.0000
237 | VOLVO | XC70 | 0 | 4,614 | 0.0000
238 | VOLVO | XC90 | 0 | 6,806 | 0.000

Issued on: June 15, 2011.
Christopher J. Bonanti,
Associate Administrator for Rulemaking.

[FR Doc. 2011-15561 Filed 6-21-11; 8:45 am]

BILLING CODE 4910-59-P